DEPARTMENT OF THE INTERIOR

Bureau of Land Management

[LLES002000 L16100000 DP0000 LXSS051M0000]

Notice of Availability of the Southeastern States Draft Resource Management Plan and Draft Environmental Impact Statement

AGENCY: Bureau of Land Management, Interior.

ACTION: Notice of availability.

SUMMARY: In accordance with the National Environmental Policy Act of 1969, as amended, and the Federal Land Policy and Management Act of 1976, as amended, the Bureau of Land Management (BLM) has prepared a Draft Resource Management Plan (RMP) and Draft Environmental Impact Statement (EIS) for the Southeastern States Planning Area and by this notice is announcing the opening of the comment period.

DATES: To ensure that comments will be considered, the BLM must receive written comments on the Draft RMP/EIS within 90 days following the date the Environmental Protection Agency publishes its Notice of Availability of the Draft RMP/EIS in the Federal Register. The BLM will announce future meetings or hearings and any other public participation activities at least 15 days in advance through public notices, media releases, and/or mailings.

ADDRESSES: You may submit comments related to the Southeastern States Draft RMP and Draft EIS by any of the following methods:

• Email: SSFO_RMP@blm.gov.

• Fax: 601-977-5440.

• Mail: BLM Southeastern States Field Office, 411 Briarwood Drive, Suite 404, Jackson, MS 39206.

Copies of the Southeastern States Draft RMP/EIS are available in the Southeastern States Field Office, at the above address, or may be viewed at http://www.blm.gov/es/st/en/fo/Jackson_Home_Page/planning/southeastern_rmp.html. A limited number of hard copies and DVD copies are available upon request while supplies last.

FOR FURTHER INFORMATION CONTACT: Gary Taylor, Planning and Environmental Coordinator, telephone 601-977-5413; address 411 Briarwood Drive, Suite 404, Jackson, MS 39206; email, gtaylor@blm.gov. Persons who use a telecommunications device for the deaf (TDD) may call the Federal Information Relay Service (FIRS) at 1-800-877-8339 to contact Mr. Taylor during normal business hours. The service is available 24 hours a day, 7 days a week, to leave a message or question for Mr. Taylor. You will receive a reply during normal business hours.

SUPPLEMENTARY INFORMATION: The planning area for the Southeastern States Draft RMP/EIS includes the States of Arkansas, Florida, Georgia, Kentucky, Louisiana, North Carolina, South Carolina, Tennessee, and Virginia. The RMP will replace previous BLM plans including the Florida RMP (1995), the Arkansas Planning Analysis (2002), the Louisiana Planning Analysis (2002), and the Meadowood Farm (Virginia) Planning Analysis (2003).

Within the planning area, the decision-making scope of the RMP is limited to the decision area. The decision area includes 2,991 acres of BLM-administered surface land. In addition to BLM-administered surface land, the BLM is generally responsible for administration of Federal mineral estate, including mineral estate underlying other Federal agencies' lands.

Within the planning area there are approximately 19 million acres of Federal land ownership, including approximately 10.3 million acres administered by the U.S. Forest Service (USFS), 3.7 million acres by the National Park Service (NPS), 2.4 million acres by the U.S. Fish and Wildlife Service (USFWS), and 2.5 million acres by the Department of Defense (DOD). The RMP will not make mineral leasing decisions for USFS lands, except to say that leasing of mineral estate underlying National Forests would be conducted by the BLM consistent with USFS land use plans and leasing analyses. Within the planning area there are 28 National Forests, all of which are covered by existing Forest Plans. These plans include mineral leasing decisions where potential for mineral development was identified, and typically deferred mineral leasing decisions if there was no potential for mineral development. Forest Plans are revised, as needed; BLM is currently a Cooperating Agency on three Forest Plan revisions.

The BLM will not make mineral leasing decisions in this RMP for BLM mineral estate in areas identified as having no reasonably foreseeable development potential, based on Reasonably Foreseeable Development Scenario (RFDS) analyses completed by the BLM prior to the planning effort. Therefore, the decision area includes 742,505 subsurface acres where the surface is administered by other Federal agencies (mostly DOD, including the U.S. Army Corps of Engineers) and mineral development is reasonably foreseeable. The decision area also includes 280,680 acres of Federal mineral estate where the surface is non-Federal (i.e. State or local government, or private ownership).

The total decision area includes 1,026,176 acres of subsurface with BLM-administered surface on 2,991 of those acres. There is no decision area acreage in the states of Georgia, North Carolina, or South Carolina, as these states have no BLM-administered surface acreage and the RFDS showed no reasonably foreseeable development of Federal minerals in these states.

On October 8, 2008, the BLM issued a Notice of Intent in the Federal Register to prepare the Southeastern States RMP (73 FR 58976), which initiated public scoping. Planning issues identified during scoping include management of energy and mineral resources and land ownership adjustments. During scoping, the BLM requested input from federally recognized tribes that have ancestral tribal homelands within the planning area.

Four alternatives were developed in response to the issues identified during the planning process. The “No Action” alternative represents current management, and is identified as Alternative A. Alternative B is the BLM's Preferred Alternative; it provides opportunities to use and develop Federal minerals while providing protection of natural resources. Alternative C places more emphasis on the protection of natural resources, and Alternative D emphasizes Federal mineral development.

Pursuant to 43 CFR 1610.7-2(b), this notice also announces the public comment period on proposed Areas of Critical Environmental Concern (ACECs). The Draft RMP/EIS evaluates and proposes designation for three ACECs. The resource use limitations which would apply to these areas, if formally designated, are described below.

The existing ACEC designation of 54.33 acres on the Jupiter Inlet Lighthouse Outstanding Natural Area would continue in Alternative A. Alternatives B, C and D propose increasing the size of the Jupiter Inlet Lighthouse Outstanding Natural Area ACEC to 85.83 acres. Values associated with this proposed ACEC include threatened, endangered, and sensitive wildlife and plants, rare vegetation communities, and Native American and maritime cultural resources. The resource use limitations which would occur are as follows: Closed to mining, mineral leasing and mineral material sale; right-of-way avoidance area; limit travel to designated routes; and Visual Resource Management (VRM) Class III.

Alternatives B and C propose designating The Lathrop Bayou tract ACEC (183.03 acres). This proposed ACEC is a peninsula with adjacent small islands containing upland longleaf pine and slash pine forests and habitat for red cockaded woodpecker, among other species. Values associated with this proposed ACEC include threatened, endangered, and sensitive wildlife and plants, and rare vegetation communities. The resource-use limitations which would occur if this proposed ACEC is formally designated are as follows: Closed to mining, mineral leasing and mineral material sale; right-of-way avoidance area; limit travel to designated routes.

Alternatives B and C propose designating the Egmont Key tract ACEC (55 acres). This proposed ACEC is the northern end of the key, located at the mouth of Tampa Bay, and contains beach transitioning to vegetated uplands with a lighthouse and remnants of an historic fort. Values associated with this proposed ACEC include threatened, endangered, and sensitive wildlife and plants, and historic cultural resources. The resource use limitations which would occur if this proposed ACEC is formally designated are as follows: Closed to mining, mineral leasing and mineral material sale; right-of-way avoidance area; limit travel to designated routes; and VRM Class III.

The BLM will respond to each substantive comment received during the public review and comment period by making appropriate revisions to the document, or explaining why the comment did not warrant a change. Notice of the availability of the Proposed RMP/Final EIS will be posted in the Federal Register.

In order to reduce the use of paper and control costs, the BLM strongly encourages the public to submit comments electronically via email. Comments submitted must include the commenter's name and street address. Whenever possible, please include reference to either the page or section in the Draft RMP/EIS to which the comment applies.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Bruce Dawson,
Manager, Southeastern States Field Office.

[FR Doc. 2014-25693 Filed 10-30-14; 8:45 am]

BILLING CODE 4310-GJ-P